DEPARTMENT OF THE TREASURY

United States Mint

Update to the January 6, 2012, Federal Register Notice on Prices for 2012 Products Featuring $1 Coins

AGENCY: United States Mint, Department of the Treasury.

ACTION: Notice.

SUMMARY: On January 6, 2012, the United States Mint announced 2012 prices for nine products featuring $1 coins, including a $1 Coin Five-Coin Set, priced at $12.95. This notice is to announce that a Presidential $1 Four-Coin Set, priced at $9.95, will be offered instead of the $1 Coin Five-Coin Set. All of the other $1 coin products and their prices announced on January 6, 2012, will remain as United States Mint offerings. The complete $1 coin product list with prices is as follows:

Product | Retail price
Presidential $1 Four-Coin Set | $9.95
Presidential $1 Coin & First Spouse Medal Set™ | 9.95
Presidential $1 Coin Uncirculated Set™ (P&D) | 16.95
Presidential $1 Coin Proof Set™ | 18.95
American Presidency $1 Coin Cover Series | 19.95
Native American and Presidential $1 Coin Rolls | 32.95
$1 Coin 100-Coin Bags | 111.95
$1 Coin 250-Coin Box | 275.95
$1 Coin 500-Coin Box | 550.95

FOR FURTHER INFORMATION CONTACT: B. B. Craig, Associate Director for Sales and Marketing, United States Mint, 801 9th Street NW., Washington, DC 20220; or call 202-354-7500.

Authority: 31 U.S.C. 5111, 5112, and 9701.

Dated: March 21, 2012.
Richard A. Peterson,
Deputy Director, United States Mint.

[FR Doc. 2012-7258 Filed 3-26-12; 8:45 am]

BILLING CODE P